DEPARTMENT OF THE INTERIOR

Bureau of Land Management

[WY-100-05-1310-DB]

Notice of Meeting of the Pinedale Anticline Working Group Adaptive Management Advisory Committee

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group adaptive management advisory committee will meet in Pinedale, Wyoming, for a business meeting. The meeting is open to the public.

DATES: The Pinedale Anticline Working Group (PAWG) will meet November 4, 2004, beginning at 9 a.m. and continuing until finished, or as late as 5:45 p.m.

ADDRESSES: The PAWG meeting will be held in the meeting room of the Pinedale Volunteer Fire Station, 130 S. Fremont Avenue, Pinedale, WY.

FOR FURTHER INFORMATION CONTACT: Carol Kruse, BLM/PAWG Liaison, Bureau of Land Management, Pinedale Field Office, 432 E. Mill St., P.O. Box 768, Pinedale, WY 82941; 307-367-5352 or carol_kruse@blm.gov.

SUPPLEMENTARY INFORMATION: The PAWG was authorized and established with release of the Record of Decision (ROD) for the Pinedale Anticline Oil and Gas Exploration and Development Project on July 27, 2000. The PAWG advises the BLM on the development and implementation of monitoring plans and adaptive management decisions as development of the Pinedale Anticline Natural Gas Field (PAPA) proceeds for the life of the field.

After the ROD was issued, Interior determined that a Federal Advisory Committees Act (FACA) charter was required for this group. The charter was signed by Secretary of the Interior, Gale Norton, on August 15, 2002, and renewed on August 13, 2004. An announcement of committee initiation and call for nominations was published in the Federal Register on February 21, 2003, (68 FR 8522). PAWG members were appointed by Secretary Norton on May 4, 2004.

The PAWG's third meeting discussion topics will include: review of Task Group (resource-specific subcommittees) reports and presentations from wildlife researchers. Public comments will be heard just prior to a noon lunch break and just prior to adjournment.

Dated: September 30, 2004.
Donald A. Simpson,
Acting State Director.

[FR Doc. 04-22468 Filed 10-5-04; 8:45 am]

BILLING CODE 4310-22-P